DEPARTMENT OF TRANSPORTATION

National Highway Traffic Safety Administration

[Docket No. NHTSA 2003-15621; Notice 2]

Accuride Corporation; Grant of Application for Decision of Inconsequential Noncompliance

Accuride Corporation (Accuride) has determined that approximately 1,053 Extra Service Wheels, produced between May 27, 2003, and May 31, 2003, do not meet certain requirements of Federal Motor Vehicle Safety Standard (FMVSS) No. 120, “Tire Selection and Rims for Motor Vehicles Other Than Passenger Cars.” Some 466 of the 1,053 Extra Service Wheels were shipped to eleven different customers.

Pursuant to 49 U.S.C. 30118(d) and 30120(h), Accuride has petitioned for a determination that this noncompliance is inconsequential to motor vehicle safety and has filed an appropriate report pursuant to 49 CFR Part 573, “Defect and Noncompliance Reports.”

Notice of receipt of the application was published, with a 30-day comment period, on July 21, 2003, in the Federal Register (68 FR 43254). NHTSA received no comments.

Accuride described the noncompliant wheels as size 22.5 x 8.25 inch, 15 degree drop center, one piece tubeless aluminum dual wheels. Accuride produced these wheels at its Erie, Pennsylvania plant and machined them at the Accuride plant in Cuyahoga Falls, Ohio. The symbol “DOT” and the designation, which indicates the source of the rims” published nominal dimensions, in this case “T,” were inadvertently not marked on the wheels. Accuride believes that the omission of the “DOT-T” marking is inconsequential to safety as the omission in no way affects the performance of the wheel and does not otherwise compromise safety. Accuride states that all other information markings required by FMVSS No. 120 are correctly marked.

Paragraph S5.2 of FMVSS 120 requires that each rim be marked with specific information, including a designation indicating the source of the rims' published nominal dimensions and the symbol “DOT,” constituting a certification by the manufacturer of the rim that it complies with all applicable motor vehicle safety standards. Exclusion of the information may cause mismatching of tires to rims that could result in tire and rim separations or blowouts.

In this case, the agency agrees that the noncompliance is inconsequential to motor vehicle safety as all other information markings, including the correct rim size designation, as required by FMVSS No. 120 are correctly marked and the consumer can refer to these markings to match the rims to tires. Also, the agency traditionally considers failure to mark “DOT” as a failure to certify under 49 CFR Part 567—Certification rather than a failure to comply with a FMVSS. As such, the absence of the “DOT” symbol in this case will not compromise the safe operation of motor vehicles.

In consideration of the foregoing, NHTSA has decided that the applicant has met its burden of persuasion that the noncompliance at issue is inconsequential to motor vehicle safety. Accordingly, Accuride's application is hereby granted, and the applicant is exempted from the obligation of providing notification of, and a remedy for, the noncompliance.

Authority: (49 U.S.C. 301118, 301120; delegations of authority at 49 CFR 1.50 and 501.8)

Issued on: March 11, 2004.
Stephen R. Kratzke,
Associate Administrator for Rulemaking.

[FR Doc. 04-5891 Filed 3-15-04; 8:45 am]

BILLING CODE 4910-59-P